DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Pub. L. 104-121). It consists of a summary of rules appearing in Federal Acquisition Circular (FAC) 2001-17 which amends the FAR. An asterisk (*) next to a rule indicates that a regulatory flexibility analysis has been prepared in accordance with 5 U.S.C. 604. Interested parties may obtain further information regarding these rules by referring to FAC 2001-17, which precedes this document. These documents are also available via the Internet at http://www.arnet.gov/far.

FOR FURTHER INFORMATION CONTACT: Laurie Duarte, FAR Secretariat, (202) 501-4225. For clarification of content, contact Ms. Rhonda Cundiff, Procurement Analyst, General Services Administration, at (202) 501-0044.

* Contract Bundling (FAR Case 2002-029)

This final rule implements the Office of Management and Budget's October 2002 report, entitled “Contract Bundling: A Strategy for Increasing Federal Contracting Opportunities for Small Business” which requires amendments to the Federal Acquisition Regulation (FAR) to implement the following action items: (1) Revise the definition of bundling to expressly include multiple award contract vehicles and task and delivery orders under such contracts; (2) require procuring activities to coordinate with their small business specialist (SBS) proposed acquisition strategies or plans contemplating awards above specified dollar thresholds and require the SBS to notify the agency Office of Small and Disadvantaged Utilization (OSDBU) when those strategies include unnecessary and unjustified contract bundling; (3) reduce the threshold and revise the documentation required for substantial bundling; and (4) require agency OSDBUs to perform periodic oversight reviews of agency bundling activities. To implement the action items, this final rule amends FAR Parts 2, 7, 8, 10, 16, 19, and 42.

Dated: October 16, 2003.
Laura Auletta,
Director, Acquisition Policy Division.

[FR Doc. 03-26464 Filed 10-17-03; 8:45 am]

BILLING CODE 6820-EP-P